DEPARTMENT OF DEFENSE

Department of the Navy

[USN-2006-0058]

Privacy Act of 1974; System of Records

AGENCY: Department of the Navy, DoD.

ACTION: Notice to amend systems of records.

SUMMARY: The Department of the Navy is amending a system of records notice in its existing inventory of record systems subject to the Privacy Act of 1974, (5 U.S.C. 552a), as amended.

DATES: This proposed action will be effective without further notice on October 25, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 18, 2006.
C. R. Choate,
Alternate OSD Federal Register Liaison Officer, Department of Defense.

N04066-3

System name:

Layaway Sales Records (September 20, 1993, 58 FR 48852).

Changes:

* * * * *

Authority for maintenance of the system: Delete entry and replace with “10 U.S.C. 5013, Secretary of the Navy.”

* * * * *

Storage:

Delete entry and replace with “Electronic journals and paper records in file folders include layaway tickets and layaway patron lists.”

Retrievability:

Delete entry and replace with “Name and address.”

Safeguards:

Delete entry and replace with “Controlled access to electronic journals and supervised records space.”

Retention and disposal:

Delete entry and replace with “Paid in full layaway records are maintained in an electronic journal for a period of one year and then destroyed. Paper records are destroyed after two years.”

System manager(s) and address:

Delete second paragraph and replace with “Record Holder: Director, Operations Group, Navy Exchange Service Command, 3280 Virginia Beach Boulevard, Virginia Beach, VA 23452-5724. Individual record holders within the central system may be contacted through the central system record holder.”

* * * * *

N04066-3

System name:

Layaway Sales Records

System location:

Navy Exchange Service Command, 3280 Virginia Beach Boulevard, Virginia Beach, VA 23452-5724 (for all Navy exchanges).

Categories of individuals covered by the system:

Patrons of Navy exchanges who buy goods on layaway.

Categories of records in the system:

Layaway tickets and layaway patron lists.

Authority for maintenance of the system:

10 U.S.C. 5013, Secretary of the Navy.

Purpose(s):

To record the selection of layaway merchandise, record payments, verify merchandise pick-up and perform sales audits.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems notices apply to this system.

Policies and practices for storing, retrieving, accessing, retaining, and disposing of records in the system:

Storage:

Electronic journals and paper records in file folders include layaway tickets and layaway patron lists.

Retrievability:

Name and address.

Safeguards:

Controlled access to electronic journals and supervised records space.

Retention and disposal:

Paid in full layaway records are maintained in an electronic journal for a period of one year and then destroyed. Paper records are destroyed after two years.

System manager(s) and address:

Policy Official: Commander, Navy Exchange Service Command, 3280 Virginia Beach Boulevard, Virginia Beach, VA 23452-5724.

Record Holder:

Director, Operations Group, Navy Exchange Service Command, 3280 Virginia Beach Boulevard, Virginia Beach, VA 23452-5724. Individual record holders within the central system may be contacted through the central system record holder.

Notification procedure:

Individuals seeking to determine whether this system of records contains information about themselves should address written inquiries to the Commander, Navy Exchange Service Command, 3280 Virginia Beach Boulevard, Virginia Beach, VA 23452-5724.

In the initial inquiry, the requester must provide full name and activity where layaway sales were transacted. A list of other offices the requester may visit will be provided after initial contact at the office listed above. At the time of personal visit, requesters must provide proof of identity containing the requester's signature.

Record access procedures:

Individuals seeking access to records about themselves should address written inquiries to the Commander, Navy Exchange Service Command, 3280 Virginia Beach Boulevard, Virginia Beach, VA 23452-5724. The requester must provide full name and activity where layaway sales were transacted. A list of other offices the requester may visit will be provided after initial contact at the office listed above. At the time of personal visit, requesters must provide proof of identity containing the requester's signature.

Contesting record procedures:

The Navy's rules for accessing records, and for contesting contents and appealing initial agency determinations are published in Secretary of the Navy Instruction 5211.5; 32 CFR part 701; or may be obtained from the system manager.

Record source categories:

The individual.

Exemptions claimed for the system:

None.

[FR Doc. 06-8157 Filed 9-22-06; 8:45 am]

BILLING CODE 5001-06-U